DEPARTMENT OF AGRICULTURE

Agricultural Marketing Service

[Docket No. AMS-FV-10-0022; FV10-033-1NC.]

Notice of Request for Renewal of a Recordkeeping Burden

AGENCY: Agricultural Marketing Service, USDA.

ACTION: Notice and request for comments.

SUMMARY: In accordance with the Paperwork Reduction Act of 1995 (44 U.S.C. Chapter 35), this notice announces the Agricultural Marketing Service's (AMS) intention to request for renewal a recordkeeping burden for the information collection for the Export Fruit Acts covering exports of apples and grapes.

DATES: Comments on this notice must be received by June 11, 2010 to be assured of consideration.

Additional Information or Comments: Contact Andrew Hatch, Supervisory Marketing Specialist, Marketing Order Administration Branch, Fruit and Vegetable Programs, AMS, USDA, 1400 Independence Avenue, SW., STOP 0237, Washington, DC, 20250-0237; telephone (202) 720-6862 or Fax (202) 720-8938.

Small businesses may request information on this notice by contacting Antoinette Carter, Marketing Order Administration Branch, Fruit and Vegetable Programs, AMS, USDA, 1400 Independence Avenue, SW., STOP 0237, Washington, DC 20250-0237; telephone (202) 690-3919, Fax: (202) 720-8938.

SUPPLEMENTARY INFORMATION: Title: Export Fruit Regulations—Export Apple Act (7 CFR part 33) and the Export Grape and Plum Act (7 CFR part 35).

OMB Number: 0581-0143.

Expiration Date of Approval: November 30, 2010.

Type of Request: Request for Renewal of a Recordkeeping Burden.

Abstract: Fresh apples and grapes grown in the United States shipped to any foreign destination must meet minimum quality and other requirements established by regulations issued under the Export Apple Act (7 U.S.C. 581-590) and the Export Grape and Plum Act (7 U.S.C. 591-599)(Acts), which are found respectively at 7 CFR parts 33 and 35. Currently, plums are not regulated under the Act. The regulations issued under the Acts cover exports of fresh apples and grapes grown in the United States and shipped to foreign destinations, except Canada and Mexico. Certain limited quantity provisions may exempt some shipments and exporters from this information collection. The Secretary of Agriculture is authorized to oversee the implementation of the Acts and issue regulations regarding that activity.

The information collection requirements in this request are essential to carry out the intent and administration of the Acts. Both Acts were designed to promote foreign trade in the export of apples, grapes and plums grown in the United States; to protect the reputation of the American-grown commodities; and to prevent deception or misrepresentation of the quality of such products moving in foreign commerce. The Acts have been in effect since 1933 (apples) and 1960 (grapes).

Specific regulations issued under the Acts (7 CFR § 33.11 for apples, and § 35.12 for grapes) require that the U.S. Department of Agriculture (USDA) officially inspect and certify that each export shipment of fresh apples and grapes is in compliance with quality and shipping requirements effective under the Acts. Shipments are inspected and certified by Federal or Federal-State Inspection Program (FSIP) inspectors. FSIP is administered by USDA.

The information collection requirements in this request impose the minimum burden necessary to effectively administer the Acts.

The information collection burden for this action is primarily in the form of recordkeeping. Export Form Certificates (certificates) issued by FSIP are used to facilitate the export process. The certificates are not completed by the exporters or carriers and are not filed with USDA. The certificates are retained by each exporter, and third party carrier which ships the commodity, to verify their compliance with the Acts. There are an estimated 80 exporters of apples and grapes and an estimated 20 carriers which transport those shipments. Pursuant to the Acts, exporters and carriers must retain inspection certificates for three (3) years.

Estimate of Burden: Public reporting burden for this collection of information is estimated to average .25 hours per response.

Recordkeepers: Apple and grape exporters and carriers.

Estimated Number of Recordkeepers: 100.

Estimated Number of Responses per Respondent: 1.

Estimated Total Annual Burden on Respondents: 25 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Interested persons are invited to submit written comments concerning this rule. Comments must be sent to the Docket Clerk, Marketing Order Administration Branch, Fruit and Vegetable Programs, AMS, USDA, 1400 Independence Avenue, SW, STOP 0237, Washington, DC 20250-0237; Fax: (202) 720-8938; or Internet: http://www.regulations.gov. Comments should reference the docket number and the date and page number of this issue of the Federal Register.

All comments received will be available for public inspection during regular business hours at the same address, or can be viewed at: http://www.regulations.gov. All responses to this notice will be summarized and included in the request for OMB approval. All comments will become a matter of public record.

Dated: April 7, 2010.
David R. Shipman,
Acting Administrator, Agricultural Marketing Service.

[FR Doc. 2010-8286 Filed 4-9-10; 8:45 am]

BILLING CODE 3410-02-P